DEPARTMENT OF JUSTICE

Notice of Lodging of Consent Decree Pursuant to the Comprehensive Environmental Response Compensation and Liability Act (“CERCLA”)

Notice is hereby given that on July 21, 2009, a proposed Consent Decree in United States v. Princeton Gamma-Tech, Inc., et al. (D.N.J.) No. 91-809 (AET), was lodged with the United States District Court for the District of New Jersey.

In this action, the United States sought the recovery of response costs pursuant to Section 107(a) of the Comprehensive Environmental Response, Compensation, and Recovery Act, as amended (“CERCLA”), 42 U.S.C. 9607(a), from Defendants for response costs incurred at the Rocky Hill Municipal Wellfield Superfund Site and the Montgomery Township Housing Development Superfund Site (the “Sites”), located in Somerset County, New Jersey. Pursuant to the proposed Consent Decree, the Settling Defendants will pay to the United States $1,842,500 in reimbursement of past and future response costs incurred by the United States with respect to the Sites. In addition, the Settling Defendants will pay $907,500 to the State of New Jersey in reimbursement of past and future response costs and natural resources damages related to the Sites. The proposed Consent Decree provides the Settling Defendants with a covenant not to sue pursuant to Sections 106 and 107 of CERCLA, 42 U.S.C. 9606 and 9607.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Princeton Gamma-Tech, Inc., et al. (D.N.J.) No., D.J. Ref. 90-11-2-290.

The consent decree may be examined at the Office of the United States Attorney, District of New Jersey, Clarkson S. Fisher Federal Building and U.S. Courthouse, 402 E. State Street Trenton, New Jersey 08608 (contact AUSA Irene Dowdy), and at U.S. EPA Region II, 290 Broadway, New York, New York 10007-1866 (contact Amelia Wagner). During the public comment period, the Consent Decree, may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.00 (25 cents per page reproduction cost) payable to the U.S. Treasury.

Maureen Katz,
Assistant Chief, Environmental Enforcement Section, Environment and Natural Resources Division.

[FR Doc. E9-18267 Filed 7-30-09; 8:45 am]

BILLING CODE 4410-15-P